DEPARTMENT OF TRANSPORTATION

Federal Aviation Administration

14 CFR Part 39

[Docket No. 2000-NM-321-AD; Amendment 39-12436; AD 2001-18-10]

RIN 2120-AA64

Airworthiness Directives; Empresa Brasileira de Aeronautica S.A. (EMBRAER) Model EMB-135 and EMB-145 Series Airplanes

AGENCY: Federal Aviation Administration, DOT.

ACTION: Final rule.

SUMMARY: This amendment adopts a new airworthiness directive (AD), applicable to certain EMBRAER Model EMB-135 and EMB-145 series airplanes, that requires replacement of the engine oil pressure sensors with new sensors, and installation of an oil tank pressure relief kit. Additionally, this amendment requires revision of the Airplane Flight Manual that would specify new oil pressure limits. This action is necessary to prevent rejected takeoffs due to exceeding engine oil pressure limits, which could result in reduced controllability of the airplane. This action is intended to address the identified unsafe condition.

DATES: Effective October 18, 2001.

The incorporation by reference of certain publications listed in the regulations is approved by the Director of the Federal Register as of October 18, 2001.

ADDRESSES: The service information referenced in this AD may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Linda M. Haynes, Aerospace Engineer, Airframe and Propulsion Branch, ACE-117A, FAA, Atlanta Aircraft Certification Office, One Crown Center, 1895 Phoenix Boulevard, suite 450, Atlanta, Georgia 30337-2748; telephone (770) 703-6091; fax (770) 703-6097.

SUPPLEMENTARY INFORMATION: A proposal to amend part 39 of the Federal Aviation Regulations (14 CFR part 39) to include an airworthiness directive (AD) that is applicable to certain EMBRAER Model EMB-135 and EMB-145 series airplanes was published in the Federal Register on December 19, 2000 (65 FR 79323). That action proposed to require replacement of the engine oil pressure sensors with new sensors, and installation of an oil tank pressure relief kit. Additionally, that action proposed to require revision of the Airplane Flight Manual (AFM) that would specify new oil pressure limits.

Public Comment

Interested persons have been afforded an opportunity to participate in the making of this amendment. Due consideration has been given to the comments received.

Request To Withdraw the Proposed Rule

One commenter states that 96% of the applicable airplanes registered in the United States are already in compliance with the proposed requirements. Therefore, the commenter requests that the proposed rule be withdrawn.

The FAA does not agree with the commenter's request. Even if the current U.S.-registered fleet may be in compliance with the requirements of the AD, the issuance of the rule is still necessary to ensure that any affected airplane that is imported and placed on the U.S. register in the future will be required to be in compliance as well. Issuance of this AD will ensure that the airplane is modified and contains the appropriate AFM revision prior to the time it is permitted to operate in the U.S.

Request To Require Terminating Action

One commenter states that the terminating modification referenced in the “Interim Action” paragraph of the preamble of the proposed rule has been developed and approved. That terminating action includes accomplishing certain modifications of the Full Authority Digital Engine Control (FADEC) software system, Engine Indication and Crew Alerting System (EICAS), and Engine Indication and Electronic Flight Instrument System (EFIS), and replacing the existing oil pressure sensor, as specified in certain EMBRAER and Rolls-Royce service bulletins. The commenter requests that the terminating action be added as a requirement in the final rule.

The FAA does not agree with the commenter's requests, although we do acknowledge that a terminating action has been developed and approved. However, the specific modifications included in the terminating action were not available at the time the proposed rule was issued. Requiring such modifications in the final rule would substantially alter the requirements and increase the scope of the proposed rule, which would require us to provide opportunity for public comment of those additional requirements. In this case, we find that to delay this action to allow for public opportunity to comment would be inappropriate in light of the identified unsafe condition. Therefore, we have added the three modifications as an optional terminating action in new paragraph (c) of the final rule, specifying that accomplishment of all three optional modifications constitutes terminating action for the requirements of this AD.

Further Rulemaking

The FAA is considering further rulemaking to require accomplishment of the three modifications mentioned above.

Conclusion

After careful review of the available data, including the comments noted above, the FAA has determined that air safety and the public interest require the adoption of the rule with the changes described previously. The FAA has determined that these changes will neither increase the economic burden on any operator nor increase the scope of the AD.

Cost Impact

The FAA estimates that 185 EMBRAER Model EMB-135 and EMB-145 series airplanes of U.S. registry will be affected by this AD, that it will take approximately 1 work hour per airplane to install the oil pressure sensor, and that the average labor rate is $60 per work hour. Required parts will cost approximately $3,562 per airplane. The FAA estimates that it will take approximately 2 work hours per airplane to install the oil tank pressure relief kit. Required parts will cost approximately $2,421 per airplane. Additionally, it will take approximately 1 work hour per airplane to accomplish the revision of the AFM. Based on these figures, the cost impact of the AD on U.S. operators is estimated to be $1,151,255, or $6,223 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-18-10 Empresa Brasileira de Aeronautica S.A. (EMBRAER): Amendment 39-12436. Docket 2000-NM-321-AD.

Applicability: Model EMB-135 and EMB-145 airplanes, serial numbers 145001 through 145369 inclusive, equipped with Rolls-Royce/Allison engine Models AE 3007A, AE 3007A1/1, AE 3007A1/2, AE 3007A1/3, AE 3007A1, and AE 3007A1P; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Required as indicated, unless accomplished previously.

To prevent rejected takeoffs due to exceeding engine oil pressure limits, which could result in reduced controllability of the airplane, accomplish the following:

Required Actions

(a) Within 6 months after the effective date of this AD: Accomplish the requirements of paragraphs (a)(1) and (a)(2) of this AD concurrently.

(1) Replace the engine oil pressure sensors with new sensors, per EMBRAER Service Bulletin 145-31-0021, dated August 1, 2000.

(2) Install an oil tank pressure relief kit per Rolls-Royce Service Bulletin AE 3007A-79-025, dated August 1, 2000.

(b) After completion of the actions required by paragraphs (a)(1) and (a)(2) of this AD and before further flight: Revise the Limitations Section of the FAA-approved Airplane Flight Manual (AFM) by inserting a copy of Revision 40 of the EMBRAER Model EMB-145 AFM, dated August 11, 2000, into the AFM.

Optional Terminating Action

(c) Accomplishment of all of the actions specified in paragraphs (c)(1), (c)(2), and (c)(3) of this AD constitutes terminating action for the requirements of paragraphs (a) and (b) of this AD.

(1) Upgrade the Full Authority Digital Engine Control (FADEC) software system in accordance with Embraer Service Bulletins 145-73-0011, Change 01, dated January 9, 2001, and Change 02, dated April 24, 2001; and 145-73-0012, 145-73-0013, 145-73-0014, all dated January 9, 2001.

(2) Upgrade the Engine Indication and Crew Alerting System (EICAS) and Engine Indication and Electronic Flight Instrument System (EFIS) in accordance with Embraer Service Bulletins 145-31-0014, Change 03, dated March 2, 2001; and 145-31-0020, Change 01, dated January 26, 2001.

(3) Remove the existing oil pressure sensor and replace it with a new sensor having part number 23073715, in accordance with Rolls-Royce Service Bulletin AE 3007A-79-029, dated November 9, 2000.

Alternative Methods of Compliance

(d) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Manager, Atlanta ACO.

Special Flight Permits

(e) Special flight permits may be issued in accordance with sections 21.197 and 21.199 of the Federal Aviation Regulations (14 CFR 21.197 and 21.199) to operate the airplane to a location where the requirements of this AD can be accomplished.

Incorporation by Reference

(f) The actions specified in paragraphs (a)(1), (a)(2), and (b) of this AD shall be done in accordance with EMBRAER Service Bulletin 145-31-0021, dated August 1, 2000; Rolls-Royce Service Bulletin AE 3007A-79-025, dated August 1, 2000; and page 2-11, Revision 40 of the EMBRAER Model EMB-145 Airplane Flight Manual, dated August 11, 2000.

This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 3: The subject of this AD is addressed in Brazilian Notice of Proposed Regulations NPR/AD-2000-145-05, dated August 23, 2000, and NPR/AD-2000-AE3007-01, dated August 24, 2000.

Effective Date

(g) This amendment becomes effective on October 18, 2001.

Issued in Renton, Washington, on September 4, 2001.
Kalene C. Yanamura,
Acting Manager, Transport Airplane Directorate, Aircraft Certification Service.

[FR Doc. 01-22670 Filed 9-12-01; 8:45 am]

BILLING CODE 4910-13-U